DEPARTMENT OF TRANSPORTATION

Federal Transit Administration

Notice of Limitation on Claims Against Proposed Public Transportation Projects

AGENCY: Federal Transit Administration (FTA), DOT.

ACTION: Notice of Limitation on Claims.

SUMMARY: This notice announces final environmental actions taken by the Federal Transit Administration (FTA) for public transportation projects in the following areas: San Francisco, California; Miami, Florida; Sacramento, California; and Hudson County, New Jersey and New York, New York. The purpose of this notice is to announce publicly the environmental decisions by FTA on the subject projects and to activate the limitation on any claims that may challenge these final environmental actions.

DATES: By this notice, FTA is advising the public of final agency actions subject to Title 23, United States Code (U.S.C.), section 139(l). A claim seeking judicial review of the FTA actions announced herein for the listed public transportation projects will be barred unless the claim is filed on or before July 27, 2009.

FOR FURTHER INFORMATION CONTACT: Elizabeth Zelasko, Environmental Protection Specialist, Office of Planning and Environment, 202-366-0244, or Christopher Van Wyk, Attorney-Advisor, Office of Chief Counsel, 202-366-1733. FTA is located at 1200 New Jersey Avenue, SE., Washington, DC 20590. Office hours are from 9 a.m. to 5:30 p.m. EST, Monday through Friday, except Federal holidays.

SUPPLEMENTARY INFORMATION: Notice is hereby given that FTA has taken final agency actions by issuing certain approvals for the public transportation projects listed below. The actions on these projects, as well as the laws under which such actions were taken, are described in the documentation issued in connection with each project to comply with the National Environmental Policy Act (NEPA), and in other documents in the FTA administrative record for the corresponding project. The final agency environmental decision documents—Records of Decision (ROD) or Findings of No Significant Impact (FONSI)—for the listed projects are available online at http://www.fta.dot.gov/planning/environment/planning_environment_documents.html or may be obtained by contacting the corresponding FTA Regional Office for the metropolitan area where the project is located. Contact information for the FTA Regional Offices may be found at http://www.fta.dot.gov.

This notice applies to all FTA decisions on the listed projects as of the issuance date of this notice and all laws under which such actions were taken, including, but not limited to, the NEPA [42 U.S.C. 4321-4375], Section 4(f) of the Department of Transportation Act of 1966 [49 U.S.C. 303], Section 106 of the National Historic Preservation Act [16 U.S.C. 470f], and the Clean Air Act [42 U.S.C. 7401-7671q]. This notice does not, however, alter or extend the limitation period of 180 days for challenges of project decisions subject to previous notices published in the Federal Register (e.g., this notice does not extend the limitation on claims announced in the Federal Register on November 2, 2007, for the ROD issued for the Miami-Dade Orange Line Phase 2 Project).

The projects and actions that are the subject of this notice are:

1. Project name and location: Central Subway Project, San Francisco, California.

Project sponsor: San Francisco Municipal Transportation Authority (SFMTA).

Project description: The FTA and SFMTA have completed a Final Supplemental Environmental Impact Statement (FSEIS) and Final Supplemental Environmental Impact Report (FSEIR) for the Central Subway Project, an extension of the Third Street Light Rail Project. SFMTA will build a 1.7-mile extension along Fourth and Stockton Streets from the existing Third Street Light Rail Station at Fourth and King Streets to a new terminus in Chinatown at Stockton and Jackson Streets. The light rail transit will transition to subway operation at a portal under the I-80 Freeway and continue along Fourth Street in a twin-tunnel configuration. The Central Subway project includes one surface station between Brannan and Bryant Streets and three subway stations: Moscone, Union Square/Market Street, and Chinatown. A temporary construction tunnel would extend beyond the Chinatown Station under Stockton Street to Columbus Avenue near Washington Square. Final Agency Actions: ROD signed on November 26, 2008; Section 106 Memorandum of Agreement signed on November 5, 2008; Project-level Air Quality Conformity determination; and Section 4(f) de minimis impact finding. Supporting documentation: Central Subway Project Supplemental Final Environmental Impact Statement/Environmental Impact Report published on October 3, 2008.

2. Project name and location: Miami-Dade Orange Line Phase 2: North Corridor Metrorail Extension, Miami, Florida (the “Project”). Project sponsor: Miami-Dade Transit Project description: The FTA and Miami-Dade Transit prepared a Supplemental Environmental Assessment on changes made to the Project after FTA signed a Record of Decision on April 26, 2007. The Project involves a 9.2-mile heavy rail transit extension of the existing Metrorail system that would run along NW. 27th Avenue from NW. 76th Street to NW. 215th Street. Changes to the Project introduced since the ROD include modifying the location and layout of the NW. 82nd Street Station, identifying a new relocation site for the North Central Branch Library, shifting the alignment and station configuration at NW. 103rd Street Station, identifying a new location for the NW. 119th Street Station, and proposing new locations for the Park and Ride facilities at NW. 199th Street and NW. 215th Street Station Park and Ride Facilities. Final agency actions: FONSI signed on November 7, 2008; Section 106 Finding of No Historic Properties Affected. Supporting documentation: Miami-Dade Orange Line Phase 2: North Corridor Metrorail Extension Supplemental Environmental Assessment published in August 2008.

3. Project name and location: South Sacramento Corridor Phase 2 Extension Project, Sacramento, California. Project sponsor: Sacramento Regional Transit District (RT). Project description: FTA and RT have prepared a Supplemental Final Environmental Impact Statement/Subsequent Final Environmental Impact Report for a 4.3-mile Light Rail Transit (LRT) extension from the South Line at Meadowview Road to Cosumnes River College. The LRT project includes the construction of four stations at Morrison Creek, Franklin, Center Parkway, and the Cosumnes River College. Final agency actions: ROD signed on December 18, 2008; Project-level Air Quality Conformity determination; Consultation with U.S. Department of Interior (DOI) under Section 7 of the Endangered Species Act resulting in DOI's issuance of a Biological Opinion; Section 106 Finding of No Historic Properties Affected. Supporting documentation: Supplemental Final Environmental Impact Statement/Subsequent Final Environmental Impact Report for the South Sacramento Corridor Phase 2 Extension Project published on October 17, 2008.

4. Project name and location: Access to the Region's Core Project (ARC), Hudson County, New Jersey and New York City, New York. Project sponsor: New Jersey Transit (NJ Transit). Project description: FTA and NJ Transit have completed a Final Environmental Impact Statement for a 7.6 mile commuter rail project that includes a new commuter rail tunnel under the Hudson River from New Jersey into Manhattan, a new commuter rail station near the existing Penn Station New York, and the track capacity expansion of the Northeast Corridor in New Jersey from the Koppers Coke site in Kearny through the Frank R. Lautenberg Station in Secaucusto the portal of the new Hudson River tunnel near Tonnelle Avenue. Key components of the project include a new direct connection at Secaucus between the Northeast Corridor and the Main, Bergen County, and Pascack Valley lines; two new single track tunnels under the Palisades in New Jersey and the Hudson River and through the west side of Manhattan to the new underground 6-track station that will end at Fifth Avenue and West 34th Street in Manhattan; and a mid-day train storage yard on the Koppers Coke site, two fan plants/construction access shafts in New Jersey, and four fan plants/construction access shafts in Manhattan. Final agency actions: ROD signed on January 14, 2009, Project-level Air Quality Conformity Determination, Section 4(f) finding, Section 106 Programmatic Agreement dated October 13, 2008, Finding of no practicable alternative to significant encroachment into floodplains in accordance with Executive Order 11988, and Finding of no practicable alternative to new construction in wetlands in accordance with Executive Order 11990. Supporting documentation: Access to the Region's Core Project Final Environmental Impact Statement published on November 7, 2008.

Issued on: January 15, 2009.
Susan Borinsky,
Associate Administrator for Planning and Environment, Washington, DC.

[FR Doc. E9-1408 Filed 1-23-09; 8:45 am]

BILLING CODE 4910-57-P